DEPARTMENT OF TRANSPORTATION

Federal Aviation Administration

14 CFR Part 39

[Docket No. FAA-2012-0858; Directorate Identifier 2011-NM-183-AD]

RIN 2120-AA64

Airworthiness Directives; Airbus Airplanes

AGENCY: Federal Aviation Administration (FAA), DOT.

ACTION: Notice of proposed rulemaking (NPRM).

SUMMARY: We propose to supersede an existing airworthiness directive (AD) that applies to certain Airbus Model A300 B4-2C, B4-103, and B4-203 airplanes; and Model A300 B4-601, B4-603, B4-620, B4-622, B4-605R, and B4-622R airplanes. The existing AD currently requires performing a one-time detailed visual inspection of the forward fitting at frame (FR) 40 on both sides of the airplane for cracks, and repair if necessary. Since we issued that AD, we have received reports that new cracks were found in the FR 40 forward fitting. This proposed AD would require repetitive detailed inspections of the forward fitting at FR 40 without nut removal, and a one-time eddy current or liquid penetrant inspection of the forward fitting at FR 40 with nut removal, and repair if necessary. We are proposing this AD to detect and correct cracking of the FR 40 forward fitting, which could result in a deterioration of the structural integrity of the frame.

DATES: We must receive comments on this proposed AD by October 11, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2012-0858; Directorate Identifier 2011-NM-183-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On March 4, 2010, we issued AD 2010-06-05, Amendment 39-16229 (75 FR 11435, March 11, 2010). That AD required actions intended to address an unsafe condition on the products listed above.

Since we issued AD 2010-06-05, Amendment 39-16229 (75 FR 11435, March 11, 2010), we have received reports that additional cracks have been found after the modification had been completed. In addition, new inspections have been added to address the unsafe condition. The European Aviation Safety Agency (EASA), which is the Technical Agent for the Member States of the European Community, has issued EASA Airworthiness Directive 2011-0163, dated August 30, 2011 (referred to after this as “the MCAI”), to correct an unsafe condition for the specified products. The MCAI states:

One A300-600 aeroplane operator reported that, during a routine inspection, a crack was found in the right hand frame (FR) 40 forward fitting between stringer 32 and stringer 33. The subject aeroplane had previously been modified in accordance with Airbus SB A300-57-6053 (Mod. 10453).

Therefore and pending completion of the full analysis using a refined Finite Element Model, EASA issued AD 2009-0094 [which corresponds with FAA AD 2010-06-05, Amendment 39-16229 (75 FR 11435, March 11, 2010)] to require a one-time Detailed Visual Inspection (DVI) of the post-SB A300-57-6053 A300-600 aeroplanes and post-SB A300-53-0297 A300 aeroplanes in order to ensure the structural integrity of frame 40.

During a recent maintenance check, on two aeroplanes (one A300B4 and one A300-600), cracks were found in the FR 40 forward fitting.

These new crack findings are considered as unexpected, since they were found after:

—Application of modification SB A300-57-6053 or SB A300-53-0297 which cancels the inspection programme, and

—Accomplishment of EASA AD 2009-0094.

For the reasons described above, this new [EASA] AD, which supersedes EASA AD 2009-0094, requires repetitive DVI of the FR 40 forward fitting (without nut removal), accomplishment of a one time Eddy Current (EC) inspection or liquid penetrant inspection of this area (with nut removal) and, depending on findings, the accomplishment of associated corrective action [repair if any cracking found]. Passing the EC or liquid penetrant inspection constitutes terminating action for the repetitive DVI.

You may obtain further information by examining the MCAI in the AD docket.

Relevant Service Information

Airbus has issued All Operator Telex A300-53A0391, dated August 9, 2011 (for Model A300 B4-2C, B4-103, and B4-203 airplanes); and All Operator Telex A300-57A6111, dated August 9, 2011 (for Model A300 B4-601, B4-603, B4-605R, B4-620, B4-622, and B4-622R airplanes). The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 134 products of U.S. registry.

The actions that are required by AD 2010-06-05, Amendment 39-16229 (75 FR 11435, March 11, 2010), and retained in this proposed AD take about 3 work-hours per product, at an average labor rate of $85 per work hour. Based on these figures, the estimated cost of the currently required actions is $255 per product.

We estimate that it would take about 3 work-hours per product to comply with the new basic requirements of this proposed AD. The average labor rate is $85 per work-hour. Based on these figures, we estimate the cost of the proposed AD on U.S. operators to be $34,170, or $255 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2010-06-05, Amendment 39-16229 (75 FR 11435, March 11, 2010), and adding the following new AD:

Airbus: Docket No. FAA-2012-0858; Directorate Identifier 2011-NM-183-AD.

(a) Comments Due Date

We must receive comments by October 11, 2012.

(b) Affected ADs

This AD supersedes AD 2010-06-05, Amendment 39-16229 (75 FR 11435, March 11, 2010).

(c) Applicability

This AD applies to Airbus airplanes, certificated in any category, as identified in paragraphs (c)(1) and (c)(2) of this AD. For airplanes on which Airbus Service Bulletin A300-53-0297 or A300-57-6053 (Airbus Modification 10453), as applicable, have been incorporated as a corrective action (repair following crack finding), no action is required by this AD.

(1) Model A300 B4-2C, B4-103, and B4-203 airplanes, all serial numbers, modified preventively in service (without any preliminary crack findings) as specified in Airbus Service Bulletin A300-53-0297 (Airbus Modification 10453).

(2) Model A300 B4-601, B4-603, B4-605R, B4-620, B4-622, and B4-622R airplanes, all serial numbers, modified preventively in service (without any preliminary crack findings) as specified in Airbus Service Bulletin A300-57-6053 (Airbus Modification 10453).

(d) Subject

Air Transport Association (ATA) of America Code 53, 57: Fuselage, Wings.

(e) Reason

This AD was prompted by reports that cracks were found in the frame (FR) 40 forward fitting. We are issuing this AD to detect and correct cracking of the FR 40 forward fitting, which could result in a deterioration of the structural integrity of the frame.

(f) Compliance

You are responsible for having the actions required by this AD performed within the compliance times specified, unless the actions have already been done.

(g) Retained Detailed Inspection

This paragraph restates the actions required by paragraphs (f)(1), (f)(2), and (f)(3) of AD 2010-06-05, Amendment 39-16229 (75 FR 11435, March 11, 2010).

(1) At the applicable time specified in table 1 to paragraph (g)(1) of this AD: Do a one-time detailed visual inspection of the forward fitting at FR 40 on both sides of the airplane, in accordance with Airbus Mandatory Service Bulletin A300-57A6108 (for Model A300 B4-601, B4-603, B4-605R, B4-620, B4-622, and B4-622R airplanes) or A300-53A0387 (for Model A300 B4-2C, B4-103, and B4-203 airplanes), both including Appendices 01 and 02, both dated September 12, 2008.

Table 1 to Paragraph (g)(1) of This AD—Compliance Times
Airplane models/configuration | Compliance time
A300 B4-2C and B4-103 airplanes on which Airbus Service Bulletin A300-53-0297 was done prior to the accumulation of 9,000 total flight cycles | Prior to the accumulation of 18,000 total flight cycles, or within 3 months after April 15, 2010 (the effective date of AD 2010-06-05, Amendment 39-16229 (75 FR 11435, March 11, 2010)), whichever occurs later.
A300 B4-2C and B4-103 airplanes on which Airbus Service Bulletin A300-53-0297 was done on or after the accumulation of 9,000 total flight cycles | Within 5,500 flight cycles after accomplishment of Airbus Service Bulletin A300-53-0297, or within 6 months after April 15, 2010 (the effective date of AD 2010-06-05, Amendment 39-16229 (75 FR 11435, March 11, 2010)), whichever occurs later; except, for airplanes that, as of April 15, 2010 (the effective date of AD 2010-06-05), have accumulated 11,000 flight cycles or more since accomplishment of Airbus Service Bulletin A300-53-0297, within 3 months after April 15, 2010 (the effective date of AD 2010-06-05).
A300 B4-203 airplanes on which Airbus Service Bulletin A300-53-0297 was done prior to the accumulation of 8,300 total flight cycles | Prior to the accumulation of 15,000 total flight cycles, or within 3 months after April 15, 2010 (the effective date of AD 2010-06-05, Amendment 39-16229 (75 FR 11435, March 11, 2010)), whichever occurs later.
A300 B4-203 airplanes on which Airbus Service Bulletin A300-53-0297 was done on or after the accumulation of 8,300 total flight cycles | Within 4,100 flight cycles after accomplishment of Airbus Service Bulletin A300-53-0297, or within 6 months after April 15, 2010 (the effective date of AD 2010-06-05, Amendment 39-16229 (75 FR 11435, March 11, 2010)), whichever occurs later; except, for airplanes that, as of April 15, 2010 (the effective date of AD 2010-06-05), have accumulated 8,200 flight cycles or more since accomplishment of Airbus Service Bulletin A300-53-0297, within 3 months after April 15, 2010 (the effective date of AD 2010-06-05).
A300 B4-601, B4-603, B4-605R, B4-620, B4-622, and B4-622R airplanes on which Airbus Service Bulletin A300-57-6053 was done prior to the accumulation of 6,100 total flight cycles | Prior to the accumulation of 11,500 total flight cycles, or within 3 months after April 15, 2010 (the effective date of AD 2010-06-05, Amendment 39-16229 (75 FR 11435, March 11, 2010)), whichever occurs later.
A300 B4-601, B4-603, B4-605R, B4-620, B4-622, and B4-622R airplanes on which Airbus Service Bulletin A300-57-6053 was done on or after the accumulation of 6,100 total flight cycles | Within 3,300 flight cycles after accomplishment of Airbus Service Bulletin A300-57-6053, or within 6 months after April 15, 2010 (the effective date of AD 2010-06-05, Amendment 39-16229 (75 FR 11435, March 11, 2010)), whichever occurs later; except, for airplanes that, as of April 15, 2010 (the effective date of AD 2010-06-05), have accumulated 6,600 flight cycles or more since accomplishment of Airbus Service Bulletin A300-57-6053, within 3 months after April 15, 2010 (the effective date of AD 2010-06-05).

(2) Except as required by paragraph (g)(3) of this AD: If any crack is found during the inspection required by paragraph (g)(1) of this AD, before further flight, do a temporary or definitive repair, as applicable, in accordance with the Accomplishment Instructions of Airbus Service Bulletin A300-53-0268, Revision 06, dated January 7, 2002 (for Model A300 B4-2C, B4-103, and B4-203 airplanes); or A300-57-6052, Revision 03, dated May 27, 2002, including Airbus Drawings 15R53810394, Issue A, dated December 21, 1998, and 21R57110247, Issue A, dated June 20, 1997 (for Model A300 B4-601, B4-603, B4-605R, B4-620, B4-622, and B4-622R airplanes).

(3) If any crack found during the inspection required by paragraph (g)(1) of this AD cannot be repaired in accordance with Airbus Service Bulletin A300-53-0268, Revision 06, dated January 7, 2002 (for Model A300 B4-2C, B4-103, and B4-203 airplanes); or A300-57-6052, Revision 03, dated May 27, 2002 including Airbus Drawings 15R53810394, Issue A, dated December 21, 1998, and 21R57110247, Issue A, dated June 20, 1997 (for Model A300 B4-601, B4-603, B4-605R, B4-620, B4-622, and B4-622R airplanes): Contact Airbus for repair instructions and, before further flight, repair the crack using a method approved by the Manager, International Branch, ANM-116, Transport Airplane Directorate, FAA, or the European Aviation Safety Agency (EASA) (or its delegated agent).

(h) Retained Reporting Requirement

This paragraph restates the requirements of paragraph (f)(4) of AD 2010-06-05, Amendment 39-16229 (75 FR 11435, March 11, 2010). Submit an inspection report in accordance with Appendix 01 of Airbus Mandatory Service Bulletin A300-53A0387, including Appendices 01 and 02, dated September 12, 2008 (for Model A300 B4-2C, B4-103, and B4-203 airplanes); or Airbus Mandatory Service Bulletin A300-57A6108, including Appendices 01 and 02, dated September 12, 2008 (for Model A300 B4-601, B4-603, B4-605R, B4-620, B4-622, and B4-622R airplanes); to the address identified on the reporting sheet, at the applicable time specified in paragraph (h)(1) or (h)(2) of this AD.

(1) If the inspection was done on or after April 15, 2010 (the effective date of AD 2010-06-05, Amendment 39-16229 (75 FR 11435, March 11, 2010)): Submit the report within 30 days after the inspection.

(2) If the inspection was done before April 15, 2010 (the effective date of AD 2010-06-05, Amendment 39-16229 (75 FR 11435, March 11, 2010)): Submit the report within 30 days after April 15, 2010 (the effective date of AD 2010-06-05).

(i) New Requirement: Repetitive Detailed Visual Inspections

Within 300 flight cycles after the effective date of this AD: Perform a detailed inspection for cracks of the forward fitting at FR 40 without nut removal on both sides of the airplane, in accordance with Airbus All Operator Telex A300-53A0391, dated August 9, 2011 (for Model A300 B4-2C, B4-103, and B4-203 airplanes); or Airbus All Operator Telex A300-57A6111, dated August 9, 2011 (for Model A300 B4-601, B4-603, B4-605R, B4-620, B4-622, and B4-622R airplanes). Thereafter, repeat the inspection at intervals not to exceed 300 flight cycles.

(j) New Requirement: Eddy Current Inspection or Liquid Penetrant Inspection

Within 36 months after the effective date of this AD: Perform an eddy current inspection or a liquid penetrant inspection for cracks of the forward fitting at FR 40 with nut removal on both sides of the airplane, in accordance with Airbus All Operator Telex A300-53A0391, dated August 9, 2011 (for Model A300 B4-2C, B4-103, and B4-203 airplanes); or Airbus All Operator Telex A300-57A6111, dated August 9, 2011 (for Model A300 B4-601, B4-603, B4-605R, B4-620, B4-622, and B4-622R airplanes).

(k) New Requirement: Corrective Action

If, during any inspection required by paragraph (i) or (j) of this AD, any crack is detected: Before further flight, repair the crack in accordance with a method approved by the Manager, International Branch, ANM-116, Transport Airplane Directorate, FAA; or EASA (or its delegated agent).

(l) New Requirement: Reporting Requirement

Submit a one-time report of the findings (both positive and negative) of the inspections required by paragraphs (i) and (j) of this AD to Airbus, Sebastien Faure, SEES1, SAS—EAW (Airworthiness Office), 1 Rond Point Maurice Bellonte, 31707 Blagnac Cedex, France; telephone +33 5 61 93 31 68; fax +33 5 61 93 36 14; email sebastien.s.faure@airbus.com, at the applicable time specified in paragraph (l)(1) or (l)(2) of this AD.

(1) If the inspection was done on or after the effective date of this AD: Submit the report within 30 days after the inspection.

(2) If the inspection was done before the effective date of this AD: Submit the report within 30 days after the effective date of this AD.

(m) New Requirement: Terminating Action

Accomplishment of the one-time eddy current inspection or a liquid penetrant inspection required by paragraph (j) of this AD, including doing all applicable repairs, constitutes terminating action for the inspections required by paragraph (i) of this AD.

(n) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; phone: (425) 227-2125; fax: (425) 227-1149; email: Dan.Rodina@faa.gov. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2010-06-05, Amendment 39-16229 (75 FR 11435, March 11, 2010), are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(o) Related Information

(1) Refer to MCAI EASA Airworthiness Directive 2011-0163, dated August 30, 2011, and the service information in paragraphs (o)(1)(i) through (o)(1)(vi) of this AD, for related information.

(i) Airbus All Operator Telex A300-53A0391, dated August 9, 2011.

(ii) Airbus All Operator Telex A300-57A6111, dated August 9, 2011.

(iii) Airbus Mandatory Service Bulletin A300-57A6108, including Appendices 01 and 02, dated September 12, 2008.

(iv) Airbus Mandatory Service Bulletin A300-53A0387, including Appendices 01 and 02, dated September 12, 2008.

(v) Airbus Service Bulletin A300-53-0268, Revision 06, dated January 7, 2002.

(vi) Airbus Service Bulletin A300-57-6052, Revision 03, dated May 27, 2002, including Airbus Drawings 15R53810394, Issue A, dated December 21, 1998, and 21R57110247, Issue A, dated June 20, 1997.

(2) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Issued in Renton, Washington, on August 17, 2012.
Ali Bahrami,
Manager, Transport Airplane Directorate, Aircraft Certification Service.

[FR Doc. 2012-20966 Filed 8-24-12; 8:45 am]

BILLING CODE 4910-13-P